DEPARTMENT OF COMMERCE

Patent and Trademark Office

Agency Information Collection Activities; Submission to the Office of Management and Budget (OMB) for Review and Approval; Comment Request; Fastener Quality Act Insignia Recordal Process

AGENCY: United States Patent and Trademark Office, Department of Commerce.

ACTION: Notice of information collection; request for comment.

SUMMARY: The United States Patent and Trademark Office (USPTO), as required by the Paperwork Reduction Act of 1995, invites comments on the extension and revision of an existing information collection: 0651-0028 Fastener Quality Act Insignia Recordal Process. The purpose of this notice is to allow 60 days for public comment preceding submission of the information collection to OMB.

DATES: To ensure consideration, comments regarding this information collection must be received on or before June 24, 2024.

ADDRESSES: Interested persons are invited to submit written comments by any of the following methods. Do not submit Confidential Business Information or otherwise sensitive or protected information.

• Email: InformationCollection@uspto.gov. Include “0651-0028 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email at Catherine.Cain@uspto.gov with “0651-0028 comment” in the subject line. Additional information about this information collection is also available at http://www.reginfo.gov under “Information Collection Review.”

SUPPLEMENTARY INFORMATION:

I. Abstract

Under section 5 of the Fastener Quality Act (FQA) of 1999,¹ 15 U.S.C. 5401 et seq., certain industrial fasteners must bear an insignia identifying the manufacturer. It is also mandatory for manufacturers of fasteners covered by the FQA to submit an application to the USPTO for recordal of the insignia on the Fastener Insignia Register.

¹ https://www.govinfo.gov/content/pkg/PLAW-106publ34/pdf/PLAW-106publ34.pdf.

The procedures for the recordal of fastener insignia under the FQA are set forth in 15 CFR 280.300 et seq. The purpose of requiring both the insignia and the recordation is to ensure that certain fasteners can be traced to their manufacturers and to protect against the sale of mismarked, misrepresented, or counterfeit fasteners.

The insignia may be a unique alphanumeric designation that the USPTO will issue upon request or a trademark that is registered at the USPTO or is the subject of an application to obtain a registration. After a manufacturer submits a complete application for recordal, the USPTO issues a Certificate of Recordal. These certificates remain active for five years. Applications to renew the certificates must be filed within six months of the expiration date or, upon payment of an additional surcharge, within six months following the expiration date.

If a recorded alphanumeric designation is assigned by the manufacturer to a new owner, the designation becomes “inactive” and the new owner must submit an application to reactivate the designation within six months of the date of assignment. If the recordal is based on a trademark application or registration and the registration is assigned to a new owner, the recordal becomes “inactive” and cannot be reassigned. Instead, the new owner of the trademark application or registration must apply for a new recordal. Manufacturers who record insignia must notify the USPTO of any changes of address.

This information collection includes one form, the Application for Recordal of Insignia or Renewal/Reactivation of Recordal Under the Fastener Quality Act (PTO-1611), which provides manufacturers with a convenient way to submit a request for the recordal of a fastener insignia or to renew or reactivate an existing Certificate of Renewal.

The public uses this information collection to comply with the insignia recordal provisions of the FQA. The USPTO uses the information in this collection to record or renew insignias under the FQA and to maintain the Fastener Insignia Register, which is open for public inspection and is updated quarterly. The public may download the Fastener Insignia Register from the USPTO website.²

² https://www.uspto.gov/trademarks/laws/fastener-quality-act-fqa/fastener-quality-act-fqa.

II. Method of Collection

The items in this information collection can be submitted by mail, email, or hand delivery to the USPTO.

III. Data

OMB Control Number: 0651-0028.

Forms:

• PTO-1611 (Application for Recordal of Insignia or Renewal/Reactivation of Recordal Under the Fastener Quality Act).

Type of Review: Extension and revision of a currently approved information collection.

Affected Public: Private sector.

Respondent's Obligation: Required to obtain or retain benefits.

Estimated Number of Annual Respondents: 90 respondents.

Estimated Number of Annual Responses: 90 responses.

Frequency: On occasion.

Estimated Time per Response: The USPTO estimates that the responses in this information collection will take the public approximately 30 minutes (0.50 hours) to complete. This includes the time to gather the necessary information, prepare the form, and submit the completed request to the USPTO.

Estimated Total Annual Respondent Burden Hours: 45 hours.

Estimated Total Annual Respondent Hourly Cost Burden: $20,115.

³ 2023 Report of the Economic Survey, published by the Committee on Economics of Legal Practice of the American Intellectual Property Law Association (AIPLA); pg. F-41. The USPTO uses the average billing rate for intellectual property work in all firms which is $447 per hour (https://www.aipla.org/home/news-publications/economic-survey).

Table 1—Total Burden Hours and Hourly Costs to Private Sector Respondents
Item No. | Item | Estimated annual respondents | Responses per respondent | Estimated annual responses | Estimated time for response (hours) | Estimated burden (hour/year) | Rate ³ ($/hour) | Estimated annual respondent cost burden
|  | (a) | (b) | (a) × (b) = (c) | (d) | (c) × (d) = (e) | (f) | (e) × (f) = (g)
1 | Applications for Recordal of Insignia or Renewal/Reactivation of Recordal Under the Fastener Quality Act | 90 | 1 | 90 | 0.50 | 45 | $447 | $20,115
| Totals | 90 |  | 90 |  | 45 |  | 20,115

Estimated Total Annual Respondent Non-hourly Cost Burden: $2,413. There are no capital start-up, maintenance costs, or recordkeeping costs associated with this information collection. However, the USPTO estimates that the total annual (non-hour) cost burden for this information collection, in the form of filing fees and postage is $2,413.

Filing Fees

The application in this information collection has two associated filing fees, resulting in $2,240 in annual non-hourly cost burden.

Item No. | Fee code | Item | Estimated annual responses | Filing fee ($) | Non-hourly cost burden
|  |  | (a) | (b) | (a) × (b) = (c)
1 | 6991 6992 | Filing an application for recordal of insignia or renewal/reactivation of recordal | 90 | $20 | $1,800
1 | 6993 6994 | Surcharge for filing six months after the expiration date—Filing an application for recordal of insignia or renewal/reactivation of recordal | 22 | 20 | 440
| Totals |  | 112 |  | 2,240

Postage Costs

Although the USPTO prefers that the items in this information collection be submitted via email, responses may be submitted by mail through the United States Postal Service (USPS). The USPTO estimates that 17 items will be submitted in the mail. The USPTO estimates that the average postage cost for a mailed submission, using a Priority Mail legal flat rate envelope, will be $10.15. Therefore, the USPTO estimates the total mailing costs for this information collection at $173.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-08660 Filed 4-22-24; 8:45 am]

BILLING CODE 3510-16-P